DEPARTMENT OF COMMERCE

National Oceanic and Atmospheric Administration

[I.D. 062700E]

Draft International Plan of Action To Address Illegal, Unregulated and Unreported Fishing

AGENCY: National Marine Fisheries Service (NMFS), National Oceanic and Atmospheric Administration (NOAA), Commerce.

ACTION: Notice of availability; public meeting; request for comments.

SUMMARY: The United States, through a collaborative effort of NMFS, the Department of State, the Office of the United States Trade Representative, the Coast Guard, and the United States Customs Service announces the availability of a draft International Plan of Action to address Illegal, Unregulated and Unreported Fishing (IPOA-IUU). The United States, through NMFS, also announces a public meeting to receive comments from members of the public on the draft IPOA-IUU. To accommodate individuals unable to attend a meeting or wishing, alternatively or in addition, to provide written comments, NMFS solicits written comments on the draft IPOA-IUU.

DATES: A public meeting on the draft IPOA-IUU will be held at 3 p.m. on Thursday, August 3, 2000. Submit comments on the IPOA-IUU to the appropriate address or fax number by 5 p.m., August 1, 2000.

ADDRESSES: The public meeting will be held at NOAA-NMFS Headquarters, 1315 East-West Highway, SSMC, Room 12836, Silver Spring, MD, 20910. Comments on the draft IPOA-IUU may be sent to Robin Tuttle, NOAA-NMFS, Office of Science and Technology, 1315 East-West Highway, Silver Spring, MD 20910, or by fax to 301-713-4057. Comments will not be accepted via e-mail or Internet.

FOR FURTHER INFORMATION CONTACT: Robin Tuttle, 301-713-2282, extension 199, or fax 301-713-4057.

SUPPLEMENTARY INFORMATION: The United States, through a collaborative effort of NMFS, the Department of State, the Office of the United States Trade Representative, the Coast Guard, and the United States Customs Service is developing the U.S. position on a voluntary IPOA-IUU elaborated by an Experts Consultation organized by the Government of Australia in cooperation with the Food and Agriculture Organization of the United Nations (FAO). The draft IPOA-IUU will be further considered by a Technical Consultation open to all member countries of the FAO, October 2-6, 2000 at FAO headquarters in Rome.

The draft IPOA-IUU is available on the FAO website at www:fao.org by clicking on “Fisheries,” “Meetings,” “Expert Consultation on Illegal, Unregulated and Unreported Fishing, Sydney, Australia, May 15-19, 2000” and “Documents” in succession, or by contacting Robin Tuttle (see FOR FURTHER INFORMATION CONTACT).

Special Accommodations

The public meeting is physically accessible to people with disabilities. Requests for sign language interpretation or other auxiliary aides should be directed to Robin Tuttle at least seven days before the meeting. NMFS will be able to accommodate a limited number of teleconference participants. Requests should be directed to Robin Tuttle by July 31, 2000, (see FOR FURTHER INFORMATION CONTACT).

Dated: June 28, 2000.
Andrew A. Rosenberg,
Deputy Assistant Administrator for Fisheries, National Marine Fisheries Service.

[FR Doc. 00-16937 Filed 7-3-00; 8:45 am]

BILLING CODE 3510-22-F